DEPARTMENT OF ENERGY

Federal Energy Regulatory Commission

[Docket Nos. RP96-312-063]

Tennessee Gas Pipeline Company; Notice of Negotiated Rate and Compliance Filing

December 4, 2001.

Take notice that on November 27, 2001, Tennessee Gas Pipeline Company (Tennessee), submitted for filing and approval a Gas Transportation Agreement between Tennessee and eCORP Marketing, L.L.C., pursuant to Tennessee's Rate Schedule FT-IL for service on Tennessee's Stagecoach Lateral, dated November 5, 2001 (November 5 Lateral Service Agreement).

Tennessee states that the filing is being made in compliance with the Commission's February 23, 2001 Order Issuing Certificates and Authorizing Abandonment in Docket Nos. CP00-65-000, et al., and the Commission's November 2, 2001 letter order in Docket Nos. RP02-17-000 and CP00-65-005. Tennessee requests that the Commission accept and approve on an expedited basis the negotiated rates in the November 5 Lateral Service Agreement to be effective on December 1, 2001.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30403 Filed 12-7-01; 8:45 am]

BILLING CODE 6717-01-P